DEPARTMENT OF TRANSPORTATION

Federal Aviation Administration

14 CFR Part 39

[Docket No. FAA-2010-1274; Directorate Identifier 2010-NM-090-AD; Amendment 39-16687; AD 2011-10-06]

RIN 2120-AA64

Airworthiness Directives; Airbus Model A310 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

DGAC [Direction Générale de l'Aviation Civile] France AD 1992-106-132(B) * * * was issued to require a set of inspection and modification tasks which addressed JAR/FAR [Joint Aviation Regulation/Federal Aviation Regulation] 25-571 requirements related to damage-tolerance and fatigue evaluation of structure.

* * * * *

The unsafe condition is reduced structural integrity of the wings. We are issuing this AD to require actions to correct the unsafe condition on these products.

DATES: This AD becomes effective June 15, 2011.

The Director of the Federal Register approved the incorporation by reference of certain publications listed in this AD as of June 15, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on January 3, 2011 (76 FR 50). That NPRM proposed to correct an unsafe condition for the specified products. The MCAI states:

DGAC [Direction Générale de l'Aviation Civile] France AD 1992-106-132(B) original issue up to revision 7 was issued to require a set of inspection and modification tasks which addressed JAR/FAR [Joint Aviation Regulation/Federal Aviation Regulation] 25-571 requirements related to damage-tolerance and fatigue evaluation of structure.

Following the Extended Design Service Goal activities as part of the Structure Task Group for the Airbus A310 program, EASA [European Aviation Safety Agency] published AD 2007-0053, which replaced DGAC France AD F-1992-106-132R7.

Since the issuance of AD 2007-0053R1, the thresholds and the intervals of Airbus Service Bulletins (SB) A310-57-2050 and A310-57-2064 have been updated.

Consequently, this new [EASA] AD takes over the requirements of paragraphs 1.15 and 1.17 of EASA AD 2007-0053R1, which has been revised accordingly * * * and requires the accomplishment of Airbus SB A310-57-2048 at revision 01.

The unsafe condition is reduced structural integrity of the wings. The required actions are as follows, depending on airplane configuration:

• Cold working of trellis boom drainage holes.

• Repetitive detailed or rotating probe inspections for cracking in the drain holes on the lower skin panel in the center wing box between frames 42 and 46 and corrective actions if necessary. Corrective actions include repairing cracking and contacting the FAA or EASA for repair and doing the repair.

• Repetitive eddy current inspections for cracking of the upper corner angle fitting and the vertical tee fitting at left and right frame 40, and corrective actions if necessary. Corrective actions include repairing, replacing the internal angle fitting, and contacting the FAA or EASA for repair and doing the repair.

You may obtain further information by examining the MCAI in the AD docket.

Comments

We gave the public the opportunity to participate in developing this AD. We considered the comment received.

Request To Revise Paragraph Header

An anonymous commenter requested that the paragraph reference in the paragraph header between table 5 and paragraph (k) of the NPRM be revised from “paragraph (h)” to “paragraph (j)”. The commenter believed the intent was to reference paragraph (j) of the NPRM.

We agree with the commenter's request. We have revised the paragraph header between table 5 and paragraph (k) of this AD.

Conclusion

We reviewed the available data, including the comment received, and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect 44 products of U.S. registry. We also estimate that it will take about 137 work-hours per product to comply with the basic requirements of this AD. The average labor rate is $85 per work-hour. Based on these figures, we estimate the cost of this AD to the U.S. operators to be $512,380, or $11,645 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-10-06 Airbus: Amendment 39-16687. Docket No. FAA-2010-1274; Directorate Identifier 2010-NM-090-AD.

Effective Date

(a) This airworthiness directive (AD) becomes effective June 15, 2011.

Affected ADs

(b) None.

Applicability

(c) This AD applies to Airbus Model A310-203, -204, -221, -222, -304, -322, -324, and -325 airplanes, certificated in any category, all serial numbers.

Subject

(d) Air Transport Association (ATA) of America Code 57: Wings.

Reason

(e) The mandatory continuing airworthiness information (MCAI) states:

DGAC [Direction Générale de l'Aviation Civile] France AD 1992-106-132(B) * * * was issued to require a set of inspection and modification tasks which addressed JAR/FAR [Joint Aviation Regulation/Federal Aviation Regulation] 25-571 requirements related to damage-tolerance and fatigue evaluation of structure.

* * * * *

The unsafe condition is reduced structural integrity of the wings.

Compliance

(f) You are responsible for having the actions required by this AD performed within the compliance times specified, unless the actions have already been done.

Cold Working of Trellis Boom Drainage Holes

(g) For Model A310-203, -204, -222, -304, -322 and -324 airplanes, except airplanes identified in paragraphs (g)(1), (g)(2), and (g)(3) of this AD: Within the applicable time specified in Table 1 of this AD, cold work the trellis boom drainage holes, in accordance with the Accomplishment Instructions of Airbus Mandatory Service Bulletin A310-57-2048, Revision 01, dated May 22, 2007. Certain compliance times specified in Table 1 of this AD are applicable to short range use, average flight time (AFT) equal to or less than 3.6 hours; or long range use, AFT exceeding 3.6 hours.

Table 1—Compliance Times for Paragraph (g) of This AD
Airplanes, as identified in Airbus Mandatory Service Bulletin A310-57-2048, Revision 01, dated May 22, 2007 | Compliance time (whichever occurs later)
Configuration 01 airplanes | Prior to the accumulation of 31,800 total flight cycles or 63,600 total flight hours, whichever occurs first | Within 6 months after the effective date of this AD.
Configuration 02 airplanes | Prior to the accumulation of 40,000 total flight cycles or 80,000 total flight hours, whichever occurs first | Within 6 months after the effective date of this AD.
Configuration 03 short range airplanes | Prior to the accumulation of 30,950 total flight cycles or 86,750 total flight hours, whichever occurs first | Within 6 months after the effective date of this AD.
Configuration 03 long range airplanes | Prior to the accumulation of 24,100 total flight cycles or 120,600 total flight hours, whichever occurs first | Within 6 months after the effective date of this AD.

(1) Airplanes on which Airbus modification 06130 was done in production.

(2) Airplanes on which Airbus Mandatory Service Bulletin A310-57-2048 was done in service.

(3) Airplanes on which rework of cracked drain holes was done in accordance with Airbus Mandatory Service Bulletin A310-57-2050.

Inspection of Trellis Boom Drainage Holes

(h) For all airplanes: Within the applicable intervals specified in Table 2 of this AD, perform a detailed or rotating probe inspection for cracking in the drain holes on the lower skin panel in the center wing box between frames 42 and 46, in accordance with the Accomplishment Instructions of Airbus Mandatory Service Bulletin A310-57-2050, Revision 02, dated August 27, 2009. Repeat the inspections thereafter at intervals not to exceed the applicable times specified in Table 3 of this AD. Certain compliance times specified in Tables 2 and 3 of this AD are applicable to short range use, average flight time (AFT) equal to or less than 3.6 hours; or long range use, AFT exceeding 3.6 hours.

Table 2—Compliance Times for Paragraph (h) of This AD
Airplanes, as identified in Airbus Mandatory Service Bulletin A310-57-2050, Revision 02, dated August 27, 2009 | Compliance time (whichever occurs later)
Configuration 01 airplanes | Prior to the accumulation of 17,800 total flight cycles or 35,600 total flight hours, whichever occurs first | Within 1,000 flight cycles or 2,000 flight hours, whichever occurs first, after the effective date of this AD.
Configuration 02 airplanes on which Airbus Mandatory Service Bulletin A310-57-2048 has been done within the “recommended” compliance times specified in paragraph 1.E.(2), “Accomplishment Timescale,” of Airbus Mandatory Service Bulletin A310-57-2048, Revision 01, dated May 22, 2007 | Within 32,850 flight cycles or 65,700 flight hours, whichever occurs first, after accomplishing Airbus Mandatory Service Bulletin A310-57-2048 | Within 1,000 flight cycles or 2,000 flight hours, whichever occurs first, after the effective date of this AD.
Configuration 02 airplanes on which Airbus Mandatory Service Bulletin A310-57-2048 has not been done within the “recommended” compliance times specified in paragraph 1.E.(2), “Accomplishment Timescale,” of Airbus Mandatory Service Bulletin A310-57-2048, Revision 01, dated May 22, 2007 | Within 8,600 flight cycles or 17,250 flight hours, whichever occurs first, after accomplishing the detailed inspection specified in Airbus Mandatory Service Bulletin A310-57-2048; OR Within 11,400 flight cycles or 22,800 flight hours, whichever occurs first, after accomplishing the rotating probe inspection specified in Airbus Mandatory Service Bulletin A310-57-2048 | Within 1,000 flight cycles or 2,000 flight hours, whichever occurs first, after the effective date of this AD.
Configuration 03 airplanes | Prior to the accumulation of 22,300 total flight cycles or 44,550 total flight hours, whichever occurs first | Within 1,000 flight cycles or 2,000 flight hours, whichever occurs first, after the effective date of this AD.
Configuration 04 airplanes | Prior to the accumulation of 41,550 total flight cycles or 83,100 total flight hours, whichever occurs first | Within 1,000 flight cycles or 2,000 flight hours, whichever occurs first, after the effective date of this AD.
Configuration 05 airplanes on which Airbus Mandatory Service Bulletin A310-57-2048 has been done within the “recommended” compliance times specified in paragraph 1.E.(2), “Accomplishment Timescale,” of Airbus Mandatory Service Bulletin A310-57-2048, Revision 01, dated May 22, 2007 | Prior to the accumulation of 40,000 total flight cycles or 80,000 total flight hours, whichever occurs first | Within 1,000 flight cycles or 2,000 flight hours, whichever occurs first, after the effective date of this AD.
Configuration 05 airplanes on which Airbus Mandatory Service Bulletin A310-57-2048 has not been done within the “recommended” compliance times specified in paragraph 1.E.(2), “Accomplishment Timescale,” of Airbus Mandatory Service Bulletin A310-57-2048, Revision 01, dated May 22, 2007 | Within 10,600 flight cycles or 21,150 flight hours, whichever occurs first, after accomplishing the detailed inspection specified in Airbus Mandatory Service Bulletin A310-57-2048; OR Within 13,900 flight cycles or 27,800 flight hours, whichever occurs first, after accomplishing the rotating probe inspection specified in Airbus Mandatory Service Bulletin A310-57-2048 | Within 1,000 flight cycles or 2,000 flight hours, whichever occurs first, after the effective date of this AD.
Configuration 06 short range airplanes | Prior to the accumulation of 17,250 total flight cycles or 48,400 total flight hours, whichever occurs first | Within 1,000 flight cycles or 2,800 flight hours, whichever occurs first, after the effective date of this AD.
Configuration 06 long range airplanes | Prior to the accumulation of 13,450 total flight cycles or 67,250 total flight hours, whichever occurs first | Within 800 flight cycles or 4,000 flight hours, whichever occurs first, after the effective date of this AD.
Configuration 07 short range airplanes | Prior to the accumulation of 32,150 total flight cycles or 90,050 total flight hours, whichever occurs first | Within 1,000 flight cycles or 2,800 flight hours, whichever occurs first, after the effective date of this AD.
Configuration 07 long range airplanes | Prior to the accumulation of 25,050 total flight cycles or 125,150 total flight hours, whichever occurs first | Within 800 flight cycles or 4,000 flight hours, whichever occurs first, after the effective date of this AD.
Configuration 08 short range airplanes on which Airbus Mandatory Service Bulletin A310-57-2048 has been done within the “recommended” compliance times specified in paragraph 1.E.(2), “Accomplishment Timescale,” of Airbus Mandatory Service Bulletin A310-57-2048, Revision 01, dated May 22, 2007 | Prior to the accumulation of 30,950 total flight cycles or 86,750 total flight hours, whichever occurs first | Within 1,000 flight cycles or 2,800 flight hours, whichever occurs first, after the effective date of this AD.
Configuration 08 short range airplanes on which Airbus Mandatory Service Bulletin A310-57-2048 has not been done within the “recommended” compliance times specified in paragraph 1.E.(2), “Accomplishment Timescale,” of Airbus Mandatory Service Bulletin A310-57-2048, Revision 01, dated May 22, 2007 | Within 8,200 flight cycles or 23,000 flight hours, whichever occurs first, after accomplishing the detailed inspection specified in Airbus Mandatory Service Bulletin A310-57-2048; OR Within 10,800 flight cycles or 30,300 flight hours, whichever occurs first, after accomplishing the rotating probe inspection specified in Airbus Mandatory Service Bulletin A310-57-2048 | Within 1,000 flight cycles or 2,800 flight hours, whichever occurs first, after the effective date of this AD.
Configuration 08 long range airplanes on which Airbus Mandatory Service Bulletin A310-57-2048 has been done within the “recommended” compliance times specified in paragraph 1.E.(2), “Accomplishment Timescale,” of Airbus Mandatory Service Bulletin A310-57-2048, Revision 01, dated May 22, 2007 | Prior to the accumulation of 24,100 total flight cycles or 120,600 total flight hours, whichever occurs first | Within 800 flight cycles or 4,000 flight hours, whichever occurs first, after the effective date of this AD.
Configuration 08 long range airplanes on which Airbus Mandatory Service Bulletin A310-57-2048 has not been done within the “recommended” compliance times specified in paragraph 1.E.(2), “Accomplishment Timescale,” of Airbus Mandatory Service Bulletin A310-57-2048, Revision 01, dated May 22, 2007 | Within 6,400 flight cycles or 31,950 flight hours, whichever occurs first, after accomplishing the detailed inspection specified in Airbus Mandatory Service Bulletin A310-57-2048; OR Within 8,400 flight cycles or 42,150 flight hours, whichever occurs first, after accomplishing the rotating probe inspection specified in Airbus Mandatory Service Bulletin A310-57-2048 | Within 800 flight cycles or 4,000 flight hours, whichever occurs first, after the effective date of this AD.

Table 3—Repetitive Intervals for Paragraph (h) of This AD, Depending on Most Recent Inspection Type
Airplanes, as identified in Airbus Mandatory Service Bulletin A310-57-2050, Revision 02, dated August 27, 2009 | Type of inspection done during most recent inspection | Repetitive interval (not to exceed)
Configuration 01 and 02 airplanes | Detailed inspection | 8,600 flight cycles or 17,250 flight hours, whichever occurs first.
| Rotating probe inspection | 11,400 flight cycles or 22,800 flight hours, whichever occurs first.
Configurations 03, 04, and 05 airplanes | Detailed inspection | 10,600 flight cycles or 21,150 flight hours, whichever occurs first.
| Rotating probe inspection | 13,900 flight cycles or 27,800 flight hours, whichever occurs first.
Configurations 06, 07, and 08 short range airplanes | Detailed inspection | 8,200 flight cycles or 23,000 flight hours, whichever occurs first.
| Rotating probe inspection | 10,800 flight cycles or 30,300 flight hours, whichever occurs first.
Configurations 06, 07, and 08 long range airplanes | Detailed inspection | 6,400 flight cycles or 31,950 flight hours, whichever occurs first.
| Rotating probe inspection | 8,400 flight cycles or 42,150 flight hours, whichever occurs first.

Corrective Actions for Paragraph (h) of This AD

(i) If any cracking is found during any inspection required by paragraph (h) of this AD, before further flight, do all applicable corrective actions, in accordance with the Accomplishment Instructions of Airbus Mandatory Service Bulletin A310-57-2050, Revision 02, dated August 27, 2009; except where the service bulletin specifies to contact Airbus, before further flight, repair in accordance with a method approved by either the Manager, International Branch, ANM-116, FAA, Transport Airplane Directorate, or European Aviation Safety Agency (EASA) (or its delegated agent).

Inspection of Fuselage Frame 40 Upper Corner Fitting

(j) For all airplanes: Within the applicable time specified in Table 4 of this AD, perform an eddy current inspection for cracking of the upper corner fitting at left and right frame 40, in accordance with the Accomplishment Instructions of Airbus Mandatory Service Bulletin A310-57-2064, Revision 02, dated December 21, 2007. Repeat the inspections thereafter at intervals not to exceed the applicable times specified in Table 5 of this AD. Certain compliance times specified in Tables 4 and 5 of this AD are applicable to short range use, average flight time (AFT) equal to or less than 3.23 hours; or long range use, AFT exceeding 3.23 hours.

Table 4—Compliance Times for Paragraph (j) of This AD
Airplane configurations identified in Airbus Mandatory Service Bulletin A310-57-2064, Revision 02, dated December 21, 2007 | Compliance time (whichever occurs later)
Model A310-203, -204, -221, and -222 airplanes identified as Configuration 01 | Prior to the accumulation of 15,100 total flight cycles or 30,300 total flight hours, whichever occurs first | Within 1,300 flight cycles or 2,700 flight hours, whichever occurs first, after the effective date of this AD.
Model A310-203, -204, -221, and -222 airplanes identified as Configurations 02 and 03 | Prior to the accumulation of 21,400 total flight cycles or 42,800 total flight hours, whichever occurs first | Within 1,300 flight cycles or 2,700 flight hours, whichever occurs first, after the effective date of this AD.
Model A310-304, -322, -324, and -325 short range airplanes identified as Configuration 01 | Prior to the accumulation of 14,700 total flight cycles or 41,300 total flight hours, whichever occurs first | Within 600 flight cycles or 1,800 flight hours, whichever occurs first, after the effective date of this AD.
Model A310-304, -322, -324, and -325 short range airplanes identified as Configurations 02 and 03 | Prior to the accumulation of 20,700 total flight cycles or 58,300 total flight hours, whichever occurs first | Within 600 flight cycles or 1,800 flight hours, whichever occurs first, after the effective date of this AD.
Model A310-304, -322, -324, and -325 long range airplanes identified as Configuration 01 | Prior to the accumulation of 12,800 total flight cycles or 64,000 total flight hours, whichever occurs first | Within 500 flight cycles or 2,650 flight hours, whichever occurs first, after the effective date of this AD.
Model A310-304, -322, -324, and -325 long range airplanes identified as Configurations 02 and 03 | Prior to the accumulation of 18,000 total flight cycles or 90,400 total flight hours, whichever occurs first | Within 500 flight cycles or 2,650 flight hours, whichever occurs first, after the effective date of this AD.

Table 5—Repetitive Intervals for Paragraph (j) of This AD
Airplanes | Repetitive interval (not to exceed)
Model A310-203, -204, -221, and -222 airplanes | 8,750 flight cycles or 17,550 flight hours, whichever occurs first.
Model A310-304, -322, -324, and -325 short range airplanes | 5,800 flight cycles or 16,300 flight hours, whichever occurs first.
Model A310-304, -322, -324, and -325 long range airplanes | 4,800 flight cycles or 24,050 flight hours, whichever occurs first.

Corrective Actions for Paragraph (j) of This AD

(k) If, during any inspection required by paragraph (j) of this AD, any crack is found, prior to further flight, do all applicable corrective actions, in accordance with the Accomplishment Instructions of Airbus Mandatory Service Bulletin A310-57-2064, Revision 02, dated December 21, 2007; except where the service bulletin specifies to contact Airbus, before further flight, repair in accordance with a method approved by either the Manager, International Branch, ANM-116, FAA, Transport Airplane Directorate, or EASA (or its delegated agent).

Credit for Actions Accomplished in Accordance With Previous Service Information

(l) Actions accomplished before the effective date of this AD in accordance with Airbus Service Bulletin A310-57-2048, dated April 23, 1990, are considered acceptable for compliance with the corresponding action specified in paragraph (g) of this AD.

(m) Actions accomplished before the effective date of this AD in accordance with Airbus Service Bulletin A310-57-2050, dated April 23, 1990; or Airbus Mandatory Service Bulletin A310-57-2050, Revision 01, dated May 22, 2007; are considered acceptable for compliance with the corresponding actions specified in paragraphs (h) and (i) of this AD.

(n) Actions done before the effective date of this AD in accordance with Airbus Service Bulletin A310-57-2064, dated August 24, 1995; or, Airbus Mandatory Service Bulletin A310-57-2064, Revision 01, dated January 5, 2001; are acceptable for compliance with the corresponding actions specified in paragraphs (j) and (k) of this AD.

FAA AD Differences

Note 1: This AD differs from the MCAI and/or service information as follows: No Differences.

Other FAA AD Provisions

(o) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate, or if sending information directly to the International Branch, send it to ATTN: Dan Rodina, Aerospace Engineer, International Branch, ANM-116, Transport Airplane Directorate, FAA, 1601 Lind Avenue, SW., Renton, Washington 98057-3356; telephone (425) 227-2125; fax (425) 227-1149. Information may be e-mailed to: 9-ANM-116-AMOC-Requests@faa.gov. Before using any approved AMOC, notify your principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(p) Refer to MCAI EASA Airworthiness Directive 2009-0057, dated March 13, 2009, and the service bulletins listed in Table 6 of this AD, for related information.

Table 6—Service Information
Service Bulletin | Revision | Date
Airbus Mandatory Service Bulletin A310-57-2048 | 01 | May 22, 2007.
Airbus Mandatory Service Bulletin A310-57-2050 | 02 | August 27, 2009.
Airbus Mandatory Service Bulletin A310-57-2064 | 02 | December 21, 2007.

Material Incorporated by Reference

(q) You must use the applicable service information contained in Table 7 of this AD to do the actions required by this AD, unless the AD specifies otherwise.

Table 7—All Material Incorporated by Reference
Service Bulletin | Revision | Date
Airbus Mandatory Service Bulletin A310-57-2048 | 01 | May 22, 2007.
Airbus Mandatory Service Bulletin A310-57-2050, excluding Appendix 01 | 02 | August 27, 2009.
Airbus Mandatory Service Bulletin A310-57-2064, excluding Appendix 1 | 02 | December 21, 2007.

(1) The Director of the Federal Register approved the incorporation by reference of the service information under 5 U.S.C. 552(a) and 1 CFR part 51.

(2) For service information identified in this AD, contact Airbus SAS—EAW (Airworthiness Office), 1 Rond Point Maurice Bellonte, 31707 Blagnac Cedex, France; telephone +33 5 61 93 36 96; fax +33 5 61 93 44 51; e-mail account.airworth-eas@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on April 22, 2011.
Ali Bahrami,
Manager, Transport Airplane Directorate, Aircraft Certification Service.

[FR Doc. 2011-10685 Filed 5-10-11; 8:45 am]

BILLING CODE 4910-13-P